DEPARTMENT OF THE INTERIOR

Office of the Special Trustee for American Indians

Notice of Proposed Information Collection: Comment Request

ACTION: Notice and request for comments.

SUMMARY: In compliance with the Paperwork Reduction Act of 1995 (44 U.S.C. 3501 et seq.), the Office of the Special Trustee for American Indians (OST) announces a request for public comments concerning the renewal of information collection authorizations. We will be submitting requests to the Office of Management and Budget (OMB) to extend authorizations for OMB Control Nos. 1035-0001, 1035-0002, and 1035-0003. These information collections allow us to collect documents associated with tribes withdrawing their funds held in trust and applying for technical assistance to withdraw funds under 25 CFR part 1200.

Request for Comments: You may send or deliver comments to the addressee in the Addresses section below. Please put on your comments the document number found in brackets in the heading of this Federal Register notice. Your comments will be summarized and included in the requests to OMB for approval and will become public records. We specifically request your comments on:

(1) Whether the proposed information collection is necessary for the office to perform its functions, including whether the information will be useful.

(2) The accuracy of the office's estimate of the burden.

(3) How to improve the quality, usefulness, and clarity of the information to be collected.

(4) How to minimize the burden on the respondents, including the possible use of automated information collection techniques or other forms of information technology.

DATES: We will consider all comments received by April 22, 2003.

ADDRESSES: You may mail or hand deliver your comments to: Ms. Sarah Yepa, Office of Trust Funds Management, Office of the Special Trustee for American Indians, 505 Marquette, NW, Suite 1000, Albuquerque, New Mexico 87102.

FOR FURTHER INFORMATION CONTACT: Sarah Yepa, Chief, Division of Quality Assurance at (505) 816-1094 or by Fax (505) 816-1377.

SUPPLEMENTARY INFORMATION: The American Indian Trust Fund Management Reform Act of 1994 (the Reform Act) allows tribes to withdraw their money held in trust by the U.S. Government. To withdraw their money, tribes must first submit an application and get approval from the Secretary of the Interior. The Reform Act also allows tribes to apply for technical assistance and financial assistance to complete the application. Financial assistance may not always be available. 25 CFR section 1200.13 tells tribes how to submit an application to withdraw their money and section 1200.14 tells them how they can apply for technical and financial assistance.

Burden Statement: The current information collection authorizations expire May 30, 2003. We are not changing the application forms or the estimated annual burden hours. We aren't allowed to conduct or sponsor and you aren't required to respond to a collection of information unless it displays a current valid OMB control number. The application forms and burden estimates are:

1. OMB No. 1035-0001, OST Form No. SF-424A, Application for Technical Assistance to Withdraw Tribal Funds from Trust Status (Specific Budget).

Estimated Annual Burden Hours: 468.

Annual Respondents: 12 American Indian Tribes.

Estimated Burden Per Response: 39 hours.

2. OMB No. 1035-0002, OST Form No. SF-424, Application for Technical Assistance to Withdraw Tribal Funds from Trust Status (General).

Estimated Annual Burden Hours: 156.

Annual Respondents: 12 American Indian Tribes.

Estimated Burden Per Response: 13 hours.

3. OMB No. 1035-0003, Application to Withdraw Tribal Funds from Trust Status (there is no application form for this information).

The collection of this information is used by the Department to determine whether: (a) The tribe's proposed management plan is reasonable; (b) the plan protects against a substantial loss of principal; (c) the investment entity is capable of managing the funds; as well as (d) whether the tribe has taken the proper legal steps to authorize the action.

Estimated Annual Burden Hours: 4,104.

Annual Respondents: 12 American Indian Tribes.

Estimated Burden Per Response: 342 hours.

Burden means the total time, effort, or financial resources expended to disclose or provide information to a federal agency and includes the time needed to review instructions, gather, process, and submit the information.

Douglas A. Lords,
Director, Office of Trust Funds Management.

[FR Doc. 03-4164 Filed 2-20-03; 8:45 am]

BILLING CODE 4310-2W-P